DEPARTMENT OF COMMERCE

National Oceanic and Atmospheric Administration

[RTID 0648-XC437]

Mid-Atlantic Fishery Management Council (MAFMC); Public Meeting

AGENCY: National Marine Fisheries Service (NMFS), National Oceanic and Atmospheric Administration (NOAA), Commerce.

ACTION: Notice; public meeting.

SUMMARY: The MAFMC will hold a public meeting regarding a video-based boat count project being conducted at the Ocean City, MD inlet.

DATES: The meeting will be held on Thursday, October 20, 2022, from 6:30 p.m. to 8:30 p.m.

ADDRESSES: The meeting will be hybrid, both in person and via webinar. Webinar connection information will be posted to the calendar prior to the meeting at www.mafmc.org. The in-person location is: Greater Ocean City Chamber of Commerce, 12320 Ocean Gateway, Ocean City, MD 21842.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of the meeting is to develop a counting approach for the video recordings of boat traffic through the Ocean City, MD inlet.

Special Accommodations

The meeting is physically accessible to people with disabilities. Requests for sign language interpretation or other auxiliary aid should be directed to Shelley Spedden, (302) 526-5251, at least 5 days prior to the meeting date.

Authority: 16 U.S.C. 1801 et seq.

Dated: October 3, 2022.
Rey Israel Marquez,
Acting Deputy Director, Office of Sustainable Fisheries, National Marine Fisheries Service.

[FR Doc. 2022-21801 Filed 10-5-22; 8:45 am]

BILLING CODE 3510-22-P